DEPARTMENT OF COMMERCE

International Trade Administration

[C-570-913]

Certain New Pneumatic Off-The-Road Tires From the People's Republic of China: Preliminary Results of Countervailing Duty Administrative Review; 2015

AGENCY: Enforcement and Compliance, International Trade Administration, Department of Commerce.

SUMMARY: The Department of Commerce (the Department) preliminarily determines that countervailable subsidies are being provided to producers and exporters of new pneumatic off-the-road tires (OTR Tires) from the People's Republic of China (PRC). The period of review (POR) is January 1, 2015, through December 31, 2015. Interested parties are invited to comment on these preliminary results.

DATES: Applicable October 6, 2017.

FOR FURTHER INFORMATION CONTACT: Chien-Min Yang or Jack Zhao, AD/CVD Operations, Office VII, Enforcement and Compliance, International Trade Administration, U.S. Department of Commerce, 1401 Constitution Avenue NW., Washington, DC 20230; telephone: (202) 482-5484 or (202) 482-1396 respectively.

Scope of the Order

The products covered by the order are new pneumatic tires designed for off-the-road (OTR) and off-highway use. For a full description of the scope of this order, see the Preliminary Decision Memorandum.¹

¹ See “Decision Memorandum for the Preliminary Results of the Countervailing Duty Administrative Review of Certain New Pneumatic Off-The-Road Tires from the People's Republic of China; 2015,” dated concurrently with this notice (Preliminary Decision Memorandum) and hereby adopted by this notice.

Methodology

On September 4, 2008, the Department issued a countervailing duty order on new pneumatic tires designed for OTR and off-highway use.² The Department is conducting this administrative review in accordance with section 751(a)(1)(A) of the Tariff Act of 1930, as amended (the Act). For each of the subsidy programs found countervailable, we preliminarily find that there is a subsidy, (i.e., a financial contribution from an authority that gives rise to a benefit to the recipient) and that the subsidy is specific.³ For a full description of the methodology underlying our preliminary conclusions, including our reliance, in part, on adverse facts otherwise available pursuant to sections 776(a) and (b) of the Act, see the accompanying Preliminary Decision Memorandum. A list of topics discussed in the Preliminary Decision Memorandum is provided at Appendix I to this notice.

² See Certain New Pneumatic Off-the-Road Tires from the People's Republic of China: Countervailing Duty Order, 73 FR 51627 (September 4, 2008) (OTR CVD Order).

³ See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

Preliminary Results of Review

As a result of this review, we preliminarily determine the countervailable subsidy rates to be:

Company | Subsidy rate (percent)
Guizhou Tyre Co., Ltd./Guizhou Tyre Import & Export Co., Ltd | 39.10
Xuzhou Xugong Tyres Co. Ltd | 91.94
Non-Selected Companies Under Review | 39.10

Preliminary Rate for Non-Selected Companies Under Review

The statute and the Department's regulations do not directly address the establishment of rates to be applied to companies not selected for individual examination where the Department limits its examination in an administrative review pursuant to section 777A(e)(2) of the Act. However, the Department normally determines the rates for non-selected companies in reviews in a manner that is consistent with section 705(c)(5) of the Act, which provides instructions for calculating the all-others rate in an investigation. Section 705(c)(5)(A)(i) of the Act instructs the Department as a general rule to calculate an all others rate using the weighted average of the subsidy rates established for the producers/exporters individually examined, excluding any zero, de minimis, or rates based entirely on facts available. In this review, the preliminary subsidy rates calculated for Guizhou Tyre and its cross-owned affiliates are above de minimis and are not based entirely on facts available. Therefore, for the companies for which a review was requested that were not selected as mandatory company respondents and which we are not finding to be cross-owned with the mandatory company respondents, we are preliminarily basing the subsidy rate on the subsidy rate calculated for Guizhou Tyre. For a list of these non-selected companies, please see Appendix II to this notice.

Disclosure and Public Comment

The Department will disclose to parties to this proceeding the calculations performed in reaching the preliminary results within five days of the date of publication of these preliminary results.⁴ Interested parties may submit written comments (case briefs) within 30 days of publication of the preliminary results and rebuttal comments (rebuttal briefs) within five days after the time limit for filing case briefs.⁵ Rebuttal briefs must be limited to issues raised in the case briefs.⁶ Parties who submit case or rebuttal briefs are requested to submit with the argument: (1) A statement of the issue; (2) a brief summary of the argument; and (3) a table of authorities.⁷

⁴ See 19 CFR 351.224(b).

⁵ See 19 CFR 351.309(c)(l)(ii) and 351.309(d)(l).

⁶ See 19 CFR 351.309(d)(2).

⁷ See 19 CFR 351.309(c)(2) and (d)(2).

Interested parties who wish to request a hearing must do so within 30 days of publication of these preliminary results by submitting a written request to the Assistant Secretary for Enforcement and Compliance, U.S. Department of Commerce, using Enforcement and Compliance's ACCESS system.⁸ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.⁹ Parties should confirm by telephone the date, time, and location of the hearing. Issues addressed at the hearing will be limited to those raised in the briefs.¹⁰ All briefs and hearing requests must be filed electronically and received successfully in their entirety through ACCESS by 5:00 p.m. Eastern Time on the due date.

⁸ See 19 CFR 351.310(c).

⁹ See 19 CFR 351.310.

¹⁰ See 19 CFR 351.310(c).

Unless the deadline is extended pursuant to section 751(a)(3)(A) of the Act, the Department intends to issue the final results of this administrative review, including the results of our analysis of the issues raised by the parties in their comments, within 120 days after publication of these preliminary results.

Assessment Rates and Cash Deposit Requirement

Upon issuance of the final results, the Department shall determine, and U.S. Customs and Border Protection (CBP) shall assess, countervailing duties on all appropriate entries covered by this review. We intend to issue instructions to CBP 15 days after publication of the final results of review.

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results of review are issued and published in accordance with sections 751(a)(l) and 777(i)(l) of the Act and 19 CFR 351.213 and 351.221(b)(4).

Dated: October 2, 2017.
Gary Taverman,
Deputy Assistant Secretary for Antidumping and Countervailing Duty Operations performing the non-exclusive duties of the Assistant Secretary for Enforcement and Compliance.

Appendix I

List of Topics Discussed in the Preliminary Decision Memorandum

I. Summary

II. Background

III. Scope of the Order

IV. Use of Facts otherwise Available and Application of Adverse Inferences

V. Application of the Countervailing Duty Law to Imports from the PRC

VI. Subsidies Valuation

VII. Interest Rate Benchmarks, Discount Rates, Input, Electricity, and Land Benchmarks

VIII. Analysis of Programs

IX. Disclosure and Public Comment

X. Verification

XI. Conclusion

Appendix II

Companies Not Selected for Review

1. Aeolus Tyre Co., Ltd.

2. Air Sea Transport Inc

3. Air Sea Worldwide Logistics Ltd

4. AM Global Shipping Lines

5. Apex Maritime Co Ltd

6. Apex Maritime Thailand Co Ltd

7. BDP Intl LTD China

8. Beijing Kang Jie Kong Intl Cargo Agent Co Ltd

9. C&D Intl Freight Forward Inc

10. Caesar Intl Logistics Co Ltd

11. Caterpillar & Paving Products Xuzhou Ltd

12. CH Robinson Freight Services China LTD

13. Changzhou Kafurter Machinery Co Ltd

14. Cheng Shin Rubber (Xiamen) Ind Ltd

15. China Intl Freight Co Ltd

16. Chonche Auto Double Happiness Tyre Corp Ltd

17. City Ocean Logistics Co Ltd

18. Consolidator Intl Co Ltd

19. Crowntyre Industrial Co. Ltd

20. CTS Intl Logistics Corp

21. Daewoo Intl Corp

22. De Well Container Shipping Inc

23. Double Coin Holdings Ltd; Double Coin Group Shanghai Donghai Tyre Co., Ltd; and Double Coin Group Rugao Tyre Co., Ltd. (collectively “Double Coin”)

24. England Logistics (Qingdao) Co Ltd

25. Extra Type Co Ltd

26. Fedex International Freight Forwarding Services Shanghai Co Ltd

27. FG Intl Logistics Ltd

28. Global Container Line

29. Honour Lane Shipping

30. Innova Rubber Co., Ltd.

31. Inspire Intl Enterprise Co Ltd

32. JHJ Intl Transportation Co

33. Jiangsu Feichi Co. Ltd.

34. Kenda Rubber (China) Co Ltd

35. KS Holding Limited/KS Resources Limited

36. Laizhou Xiongying Rubber Industry Co., Ltd.

37. Landmax Intl Co Ltd

38. LF Logistics China Co Ltd

39. Mai Shandong Radial Tyre Co., Ltd.

40. Maine Industrial Tire LLC

41. Master Intl Logistics Co Ltd

42. Melton Tire Co. Ltd

43. Merityre Specialists Ltd

44. Mid-America Overseas Shanghai Ltd

45. Omni Exports Ltd

46. Orient Express Container Co Ltd

47. Oriental Tyre Technology Limited

48. Pudong Prime Intl Logistics Inc

49. Q&J Industrial Group Co Ltd

50. Qingdao Aotai Rubber Co Ltd

51. Qingdao Apex Shipping

52. Qingdao Chengtai Handtruck Co Ltd

53. Qingdao Chunangtong Founding Co Ltd

54. Qingdao Free Trade Zone Full-World International Trading Co., Ltd.

55. Qingdao Haojia (Xinhai) Tyre Co.

56. Qingdao Haomai Hongyi Mold Co Ltd

57. Qingdao J&G Intl Trading Co Ltd

58. Qingdao Jinhaoyang International Co. Ltd

59. Qingdao Kaoyoung Intl Logistics Co Ltd

60. Qingdao Milestone Tyres Co Ltd.

61. Qingdao Nexen Co Ltd

62. Qingdao Qihang Tyre Co.

63. Qingdao Qizhou Rubber Co., Ltd.

64. Qingdao Shijikunyuan Intl Co Ltd

65. Qingdao Sinorient International Ltd.

66. Qingdao Taifa Group Imp. And Exp. Co., Ltd./Qingdao Taifa Group Co., Ltd.

67. Qingdao Wonderland

68. Qingdao Zhenhua Barrow Manufacturing Co., Ltd.

69. Rich Shipping Company

70. RS Logistics Ltd

71. Schenker China Ltd

72. Seastar Intl Enterprise Ltd

73. SGL Logistics South China Ltd

74. Shandong Huitong Tyre Co., Ltd.

75. Shandong Linglong Tyre Co., Ltd.

76. Shandong Taishan Tyre Co. Ltd.

77. Shanghai Cartec Industrial & Trading Co Ltd

78. Shanghai Grand Sound Intl Transportation Co Ltd

79. Shanghai Hua Shen Imp & Exp Co Ltd

80. Shanghai Part-Rich Auto Parts Co Ltd

81. Shanghai TCH Metals & Machinery Co Ltd

82. Shantou Zhisheng Plastic Co Ltd

83. Shiyan Desizheng Industry & Trade Co., Ltd.

84. Techking Tires Limited

85. Thi Group (Shanghai) Ltd

86. Tianjin Leviathan International Trade Co., Ltd.

87. Tianjin United Tire & Rubber International Co., Ltd.

88. Tianjin Wanda Tyre Group Co.

89. Tianshui Hailin Import and Export Corporation

90. Tiremart Qingdao Inc

91. Translink Shipping Inc

92. Trelleborg Wheel Systems (Xingtai) China, Co. Ltd.

93. Trelleborg Wheel Systems Hebei Co

94. Triangle Tyre Co. Ltd.

95. Universal Shipping Inc

96. UTI China Ltd

97. Weifang Jintongda Tyre Co., Ltd.

98. Weihai Zhongwei Rubber Co., Ltd.

99. Weiss-Rohlig China Co Ltd

100. World Bridge Logistics Co Ltd

101. World Tyres Ltd.

102. Xiamen Ying Hong Import & Export Trade Co Ltd

103. Xuzhou Xugong Tyres Co Ltd; Xuzhou Armour Rubber Company Ltd.; HK Lande International Investment Limited; Armour Tires Inc. (collectively “Xugong”)

104. Yoho Holding

105. Zheijiang Wheel World Industrial Co Ltd

106. Zhejiang Xinchang Zhongya Industry Co., Ltd.

107. Zhongce Rubber Group Company Limited

108. ZPH Industrial Ltd

[FR Doc. 2017-21586 Filed 10-5-17; 8:45 am]

BILLING CODE 3510-DS-P